DEPARTMENT OF AGRICULTURE

Rural-Business Cooperative Service

Agency Information Collection Activities: Revision of a Currently Approved Information Collection; Comments Request; Rural Development Loan Servicing

AGENCY: Rural Business-Cooperative Service, Agriculture (USDA).

ACTION: 60-Day notice and request for comments.

SUMMARY: In accordance with the Paperwork Reduction Act of 1995, this notice announces the Rural Business-Cooperative Service's (RBCS) intention to request a revision of a currently approved information collection in support of Rural Development Loan Servicing for the Intermediary Relending Program.

DATES: Comments on this notice must be received by October 12, 2021 to be assured of consideration.

FOR FURTHER INFORMATION CONTACT: Lori Pittman, Rural Business-Cooperative Service, USDA, STOP 3226, 1400 Independence Ave. SW, Washington, DC 20250-3226, Telephone: (202) 720-1400.

SUPPLEMENTARY INFORMATION:

Title: Rural Development Loan Servicing.

OMB Number: 0570-0015.

Expiration Date of Approval: November 30, 2021.

Type of Request: Revision of a currently approved information collection.

Abstract: Subpart R of 7 CFR part 1951 contains regulations for servicing and liquidating loans made by Rural Development under the Intermediary Relending Program (IRP) and the Rural Microentrepreneur Assistance Program (RMAP) to eligible intermediaries and applies to ultimate recipients and other involved parties. The information requested is vital to RBS for prudent loan servicing, credit decisions, and reasonable program monitoring.

Rural Development has determined that the financial reporting requirements are necessary to provide the Agency with current information in order to monitor the program, to make various reporting requirements to Congress, and for program innovation and expansion under the Government's Performance Review.

Servicing of the IRP is administered by RBCS in Washington, DC, which will be the primary user of the information collected. Under the Freedom of Information Act (FOIA), the general public can request the majority of the data by the Agency from the intermediaries, except for information that is classified as confidential.

Estimate of Burden: Public reporting burden for this collection of information is estimated to average 3 hours per response.

Respondents: Non-profit corporations, public agencies, Indian groups and cooperatives.

Estimated number of Respondents: 475.

Estimated number of responses: 3,941.

Estimated total annual burden on respondents: 11,878 hours.

Copies of this information collection can be obtained from Kimble Brown, Innovation Center—Regulations Management Division, at (202) 720-6780.

Comments

Comments are invited on: (a) Whether the proposed collection of information is necessary for the proper performance of the functions of RBCS, including whether the information will have practical utility; (b) the accuracy of RBCS estimate of the burden of the proposed collection of information including the validity of the methodology and assumptions used; (c) ways to enhance the quality, utility, and clarity of the information to be collected; and (d) ways to minimize the burden of the collection of information on those who are to respond, including through the use of appropriate automated, electronic, mechanical, or other technological collection techniques or other forms of information technology. All responses to this notice will be summarized and included in the request for OMB approval. All comments will also become a matter of public record.

Mark Brodziski,
Acting Administrator, Rural Business-Cooperative Service.

[FR Doc. 2021-17344 Filed 8-12-21; 8:45 am]

BILLING CODE P